DEPARTMENT OF THE INTERIOR

Bureau of Land Management

[15X L1109AF LLUT980300 L11500000.PH0000 24-1A]

Utah Resource Advisory Council/Recreation Resource Advisory Council Meeting

AGENCY: Bureau of Land Management, Interior.

ACTION: Notice.

SUMMARY: In accordance with the Federal Land Policy and Management Act, the Federal Advisory Committee Act, and the Federal Lands Recreation Enhancement Act, the Bureau of Land Management's (BLM) Utah Resource Advisory Council (RAC)/Recreation Resource Advisory Council (RecRAC) will meet as indicated below.

DATES: The BLM-Utah RAC/RecRAC will meet June 23, 2015, from 8:30 a.m.-5 p.m., and June 24, 2015, from 8:30 a.m.-Noon.

ADDRESSES: The RAC/RecRAC will meet at the BLM-Utah State Office, Monument Conference Room (5th Floor), 440 West 200 South, Salt Lake City, Utah.

FOR FURTHER INFORMATION CONTACT: If you cannot attend the meeting but wish to listen via teleconference, orally present material during the teleconference, or submit written material for the RAC/RecRAC, please notify Sherry Foot, Special Programs Coordinator, Bureau of Land Management, Utah State Office, 440 West 200 South, Suite 500, Salt Lake City, Utah 84101; phone (801) 539-4195; or, sfoot@blm.gov no later than Wednesday, June 17, 2015.

SUPPLEMENTARY INFORMATION: Planned agenda topics include the introduction of new members; an overview of BLM-Utah issues; and planning effort updates. The RecRAC will listen to a presentation on the BLM's Draft Connecting with Utah Communities [Recreation] Strategy; a review of the Federal Lands Recreation Enhancement Act; and presentations regarding proposed fees from the BLM and the U.S. Forest Service.

A half-hour public comment period will take place on June 23, from 3:00-3:30 p.m. The meeting is open to the public; however, transportation, lodging, and meals are the responsibility of the participating individuals.

Persons who use a telecommunications device for the deaf (TDD) may call the Federal Information Relay Service (FIRS) at 1-800-877-8339 to leave a message or question for the above individual. The FIRS is available 24 hours a day, seven days a week. Replies are provided during normal business hours.

Authority: 43 CFR 1784.4-1.

Lance C. Porter,
Acting Associate State Director.

[FR Doc. 2015-09312 Filed 4-21-15; 8:45 am]

BILLING CODE 4310-DQ-P